FEDERAL COMMUNICATIONS COMMISSION

[CC Docket No. 96-45; DA 02-376]

Commission Seeks Comment on AT&T Request To Contribute to Universal Service Based on Projected Revenues

AGENCY: Federal Communications Commission.

ACTION: Notice; solicitation of comments.

SUMMARY: This document seeks comments on AT&T request to the Commission to permit it to contribute based on its projected revenues for the current quarter, subject to true up with actual revenues, instead of contributing to universal service based on historical revenues from two quarters prior.

DATES: Comments are due on or before April 12, 2002. Reply comments are due on or before April 22, 2002.

ADDRESSES: See Supplementary Information section for where and how to file comments.

FOR FURTHER INFORMATION CONTACT: Paul Garnett, Attorney, Accounting Policy Division, Common Carrier Bureau, (202) 418-7400, TTY: (202) 418-0484.

SUPPLEMENTARY INFORMATION: On December 13, 2001, AT&T filed a request with the Commission to contribute to universal service based on its projected revenues on a going-forward basis. Pursuant to § 54.711(c) of the Commission's rules, universal service contributions are based on a contributors' historical gross-billed end-user interstate and international telecommunications revenues, which are reported on a quarterly basis on the FCC Form 499-Q. The FCC Form 499-Q instructs contributors to report their revenues from the prior calendar quarter. These revenue data then serve as the basis for contributions assessed in the next calendar quarter. AT&T asks the Commission to permit it to contribute based on its projected revenues for the current quarter, subject to true up with actual revenues, instead of contributing to universal service based on historical revenues from two quarters prior. AT&T contends that grant of its request is warranted because the interval between reporting and assessment of contributions under the current rules, combined with AT&T's declining interstate and international revenues, force it to recover its universal service contributions from a smaller customer base than the one on which it was assessed. We seek comment on AT&T's request.

Pursuant to §§ 1.415 and 1.419 of the Commission's rules, interested parties may file comments on or before April 12, 2002, and reply comments are due on or before April 22, 2002. Comments may be filed using the Commission's Electronic Comment Filing System (ECFS) or by filing paper copies. See Electronic Filing of Documents in Rulemaking Proceedings, (63 FR 24121, May 1, 1998). Comments filed through the ECFS can be sent as an electronic file via the Internet to <http://www.fcc.gov/e-file/ecfs.html>. Generally, only one copy of an electronic submission must be filed. If multiple docket or rulemaking numbers appear in the caption of this proceeding, however, commenters must transmit one electronic copy of the comments to each docket or rulemaking number referenced in the caption. In completing the transmittal screen, commenters should include their full name, Postal Service mailing address, and the applicable docket or rulemaking number. Parties may also submit electronic comments by Internet e-mail. To receive filing instructions for e-mail comments, commenters should send an e-mail to ecfs@fcc.gov, and should include the following words in the body of the message, “get form <your e-mail address>.” A sample form and directions will be sent in reply. Parties who choose to file by paper must file an original and four copies of each filing. If more than one docket or rulemaking number appears in the caption of this proceeding, commenters must submit two additional copies for each additional docket or rulemaking number. All filings must be sent to the Commission's Acting Secretary, William Caton, Office of the Secretary, Federal Communications Commission, 445 12th Street, SW., Washington, DC 20554.

Parties also must send three paper copies of their filing to Sheryl Todd, Accounting Policy Division, Common Carrier Bureau, Federal Communications Commission, 445 Twelfth Street SW., Room 5-A422, Washington, DC 20554. In addition, commenters must send diskette copies to the Commission's copy contractor, Qualex International, Portals II, 445 Twelfth Street, SW., Room CY-B402, Washington, DC 20554.

Pursuant to § 1.1206 of the Commission's rules, this proceeding will be conducted as a permit-but-disclose proceeding in which ex parte communications are permitted subject to disclosure.

Federal Communications Commission.
Katherine L. Schroder,
Chief, Accounting Policy Division.

[FR Doc. 02-6929 Filed 3-21-02; 8:45 am]

BILLING CODE 6712-01-P